DEPARTMENT OF COMMERCE

National Oceanic and Atmospheric Administration

[RTID 0648-XA884]

Endangered and Threatened Species; Initiation of 5-Year Review for Cook Inlet Beluga Whale (Delphinapterus leucas) Distinct Population Segment

AGENCY: National Marine Fisheries Service (NMFS), National Oceanic and Atmospheric Administration (NOAA), Commerce.

ACTION: Notice of initiation of 5-year review; request for information.

SUMMARY: NMFS announces its intent to conduct a 5-year review of the endangered Cook Inlet beluga whale (Delphinapterus leucas) distinct population segment (DPS). NMFS is required by the Endangered Species Act (ESA) to conduct 5-year reviews to ensure that listing classifications of species are accurate. The 5-year review must be based on the best scientific and commercial data available at the time of the review. We request submission of any such information on the Cook Inlet beluga whale DPS, particularly information on its status, threats, and recovery, that has become available since the previous 5-year review was issued in February 2017.

DATES: To allow us adequate time to conduct this review, we must receive your information no later than April 26, 2021. However, we will continue to accept new information about any listed species at any time.

ADDRESSES: Submit your information, identified by docket number NOAA-NMFS-2021-0010, by either of the following methods:

• Federal e-Rulemaking Portal: Go to www.regulations.gov. In the Search box, enter the above docket number for this notice. Then, click on the Search icon. On the resulting web page, click the “Comment Now!” icon, complete the required fields, and enter or attach your comments.

• Mail: Submit written information to Jon Kurland, Assistant Regional Administrator for Protected Resources, Alaska Region NMFS, Attn: Records Office. Mail comments to P.O. Box 21668, Juneau, AK 99802-1668.

Instructions: NMFS may not consider comments or other information if sent by any other method, to any other address or individual, or received after the comment period ends. All comments and information received are a part of the public record and NMFS will post the comments for public viewing on www.regulations.gov without change. All personal identifying information (e.g., name, address, etc.), confidential business information, or otherwise sensitive information submitted voluntarily by the sender is publicly accessible. NMFS will accept anonymous comments (enter “N/A” in the required fields if you wish to remain anonymous).

FOR FURTHER INFORMATION CONTACT: Jill Seymour, NMFS Alaska Region, jill.seymour@noaa.gov.

SUPPLEMENTARY INFORMATION: Section 4(c)(2)(A) of the ESA requires that the Secretary, through NMFS, conduct a review of listed species at least once every 5 years. The regulations in 50 CFR 424.21 require that we publish a notice in the Federal Register announcing species currently under active review. Based on such reviews, we determine whether a listed species should be delisted, or be reclassified from endangered to threatened or from threatened to endangered (16 U.S.C. 1533(c)(2)(B)). As described by the regulations in 50 CFR 424.11(e), the Secretary shall delist a species if the Secretary finds that, after conducting a status review based on the best scientific and commercial data available: (1) the species is extinct; (2) the species does not meet the definition of an endangered species or a threatened species; or (3) the listed entity does not meet the statutory definition of a species. Any change in Federal classification would require a separate rulemaking process.

The Cook Inlet beluga whale DPS was listed as endangered under the ESA on October 22, 2008 (73 FR 62919). Background information on the DPS is available on the NMFS website at: https://www.fisheries.noaa.gov/species/beluga-whale.

Determining if a Species Is Threatened or Endangered

Section 4(a)(1) of the ESA requires that we determine whether a species is endangered or threatened based on one or more of the five following factors: (1) The present or threatened destruction, modification, or curtailment of its habitat or range; (2) overutilization for commercial, recreational, scientific, or educational purposes; (3) disease or predation; (4) the inadequacy of existing regulatory mechanisms; or (5) other natural or manmade factors affecting its continued existence. Section 4(b) also requires that our determination be made on the basis of the best scientific and commercial data available after conducting a review of the status of the species and after taking into account those efforts, if any, being made by any State or foreign nation to protect such species.

Public Solicitation of New Relevant Information

To ensure that the 5-year review is complete and based on the best scientific and commercial data available, we are soliciting new information from the public, governmental agencies, Tribes, the scientific community, industry, environmental entities, and any other interested parties concerning the status of the listed Cook Inlet beluga whale DPS. Categories of requested information include: (1) Species biology including, but not limited to, population trends, distribution, abundance, demographics, and genetics; (2) habitat conditions including, but not limited to, amount, distribution, suitability, and important features for conservation; (3) status and trends of threats; (4) conservation measures that have been implemented that benefit the species, including monitoring data demonstrating effectiveness of such measures; (5) need for additional conservation measures; and (6) other new information, data, or corrections including, but not limited to, taxonomic or nomenclatural changes and improved analytical methods for evaluating extinction risk.

Authority: 16 U.S.C. 1531 et seq.

Dated: February 22, 2021.
Angela Somma,
Chief, Endangered Species Conservation Division, Office of Protected Resources, National Marine Fisheries Service.

[FR Doc. 2021-03890 Filed 2-24-21; 8:45 am]

BILLING CODE 3510-22-P